DEPARTMENT OF HOMELAND SECURITY

Bureau of Customs and Border Protection

Notice of Cancellation of Customs Broker Licenses

AGENCY: Customs and Border Protection, Department of Homeland Security.

ACTION: General notice.

SUMMARY: Pursuant to section 641 of the Tariff Act of 1930, as amended, (19 U.S.C. 1641) and the Customs Regulations (19 CFR 111.51), the following Customs broker licenses and all associated permits are cancelled without prejudice.

Name | License No. | Issuing port
Romeo Chapa | 09928 | Houston.
Elite Brokerage Services, Inc | 09912 | Houston.
Philip C. Ziskrout, Inc | 13201 | Los Angeles.
Murphy International Corporation | 20547 | Los Angeles.

Dated: March 25, 2009.
Daniel Baldwin,
Assistant Commissioner, Office of International Trade.

[FR Doc. E9-7614 Filed 4-3-09; 8:45 am]

BILLING CODE 9110-06-P